SOCIAL SECURITY ADMINISTRATION

20 CFR Part 408

[Regulations No. 8]

RIN 0960-AF72

Special Benefits for Certain World War II Veterans; Reporting Requirements, Suspension and Termination Events, Overpayments and Underpayments, Administrative Review Process, Claimant Representation, and Federal Administration of State Recognition Payments; Corrections

AGENCY: Social Security Administration.

ACTION: Correcting amendments.

SUMMARY: The Social Security Administration published a document in the Federal Register on May 10, 2004 (69 FR 25950), revising our rules dealing with claims for Special Veterans Benefits under title VIII of the Social Security Act. That document incorrectly designated the final four paragraphs in § 408.1003. This document corrects the final regulations by redesignating those paragraphs.

DATES: Effective on June 9, 2004.

FOR FURTHER INFORMATION CONTACT: Robert J. Augustine, Social Insurance Specialist, Office of Regulations, 100 Altmeyer Building, Social Security Administration, 6401 Security Boulevard, Baltimore, MD 21235-6401, (410) 965-0020, or TTY (410) 966-5609. For information on eligibility or filing for benefits, call our national toll-free numbers, 1-800-772-1213 or TTY 1-800-325-0778, or visit our Internet Web site, Social Security Online, at http://www.socialsecurity.gov.

SUPPLEMENTARY INFORMATION: The final rules that are the subject of this correction set forth six new subparts in part 408 (Special Benefits for Certain World War II Veterans). The six new subparts dealt with the following topics: the events you must report to us after you apply for SVB, the circumstances that will affect your SVB entitlement, how we handle overpayments and underpayments under the SVB program, how the administrative review process works, your right to appoint someone to represent you in your dealings with us, and administration agreements we may enter into with a State under which we will pay supplemental recognition payments to you on the State's behalf. On page 25963 of the document we published in the Federal Register of May 10, 2004, we incorrectly designated the final four paragraphs in § 408.1003 as paragraphs (e) through (h).

List of Subjects in 20 CFR Part 408

Administrative practice and procedure, Aged, Reporting and recordkeeping requirements, Social security, Special veterans benefits, Veterans.

Accordingly, 20 CFR part 408 is corrected by making the following correcting amendment:

PART 408—SPECIAL BENEFITS FOR CERTAIN WORLD WAR II VETERANS

1. The authority citation for subpart J continues to read as follows:

Authority: Secs. 702(a)(5) and 809 of the Social Security Act (42 U.S.C. 902(a)(5) and 1009).

§ 408.1003 [Amended]

2. In § 408.1003, redesignate the final four paragraphs as paragraphs (g) through (j).

Martin Sussman,
Regulations Officer, Social Security Administration.

[FR Doc. 04-17332 Filed 7-29-04; 8:45 am]

BILLING CODE 4191-02-P